SECURITIES AND EXCHANGE COMMISSION

[File No. 500-1]

In the Matter of Act Clean Technologies, Inc.; Order of Suspension of Trading

May 25, 2010.

It appears to the Securities and Exchange Commission (“Commission”) that there is a lack of current and accurate information concerning the securities of ACT Clean Technologies, Inc. (“ACT”) because of questions regarding the accuracy of assertions by ACT concerning, among other things: (1) British Petroleum's purported expression of interest in using a so-called oil fluidizer technology purportedly licensed to ACT's wholly-owned subsidiary, American Petroleum Solutions, Inc., for use in cleanup operations in the Gulf of Mexico, and its purported request that field tests be conducted on the oil fluidizer technology; and (2) the purported results of field tests finding that the oil fluidizers are effective for use in clean up efforts in the Gulf of Mexico.

The Commission is of the opinion that the public interest and the protection of investors require a suspension of trading in the securities of the above-listed company.

Therefore, it is ordered, pursuant to Section 12(k) of the Securities Exchange Act of 1934, that trading in the above-listed company is suspended for the period from 9:30 a.m. EDT, May 25, 2010 through 11:59 p.m. EDT, on June 8, 2010.

By the Commission.
Elizabeth M. Murphy,
Secretary.

[FR Doc. 2010-12876 Filed 5-25-10; 11:15 am]

BILLING CODE 8010-01-P